DEPARTMENT OF AGRICULTURE

Food Safety and Inspection Service

9 CFR Part 381

[Docket No. 99-059DF]

Termination of Designation of the State of Minnesota with Respect to the Inspection of Poultry and Poultry Products

AGENCY: Food Safety and Inspection Service, USDA.

ACTION: Final rule.

SUMMARY: The Food Safety and Inspection Service (FSIS) is amending the poultry products inspection regulations by terminating the designation of the State of Minnesota under sections 1 through 4, 6 through 11, and 12 through 22 of the Poultry Products Inspection Act.

DATES: This final rule is effective February 11, 2000.

ADDRESSES: Authorizing letters from Minnesota State officials are on file in the FSIS Docket Room, Room 102, Cotton Annex Building, 300 12th Street, SW, Washington, DC 20250-3700. The Docket Room is open from 8:30 a.m. to 4:30 p.m., Monday through Friday.

FOR FURTHER INFORMATION CONTACT: Dr. William F. Leese, Director, Federal-State Relations Staff, Food Safety and Inspection Service; telephone (202) 418-8900 or fax (202) 418-8834.

SUPPLEMENTARY INFORMATION:

Background

Section 5(c) of the Poultry Products Inspection Act (PPIA; 21 U.S.C. 454(c)) authorizes the Secretary of Agriculture to designate a State as one in which the provisions of sections 1-4, 6-11, and 12-22 of the PPIA will apply to operations and transactions wholly within the State after the Secretary has determined that requirements at least equal to those imposed under the Act have not been developed and effectively enforced by the State.

On January 2, 1971 and May 16, 1972, the Secretary of Agriculture designated the State of Minnesota under section 5(c) of the PPIA (21 U.S.C.) and section 301(c) (21 U.S.C. 661(c)) of the Federal Meat Inspection Act (FMIA) as a State in which the U.S. Department of Agriculture (USDA) is responsible for providing meat and poultry products inspection at eligible establishments and otherwise enforcing the applicable provisions of PPIA and FMIA with regard to intrastate activities in the State.

In addition, on January 31, 1975 (40 FR 4646), a document was published in the Federal Register announcing that effective on that date, USDA would assume the responsibility of administering the authorities provided under sections 202, 203, and 204 (21 U.S.C. 642, 643, and 644) of the FMIA and sections 11(b) and (c)(21 U.S.C. 460(b) and (c)) of the PPIA regarding certain categories of processors of meat and poultry products.

These designations were undertaken by USDA when it was determined that the State of Minnesota was not in a position to enforce meat and poultry inspection requirements under State laws for products in intrastate commerce that were at least “equal to” the requirements of the PPIA and FMIA as enforced by USDA.

In 1998, the Governor of the State of Minnesota informed FSIS that Minnesota will be in a position to administer a State meat inspection program that includes requirements at least “equal to” those imposed under the Federal meat inspection program for products in interstate commerce. Therefore, the designations of Minnesota under Titles I, II, and IV of FMIA were terminated, effective December 28, 1998. However, the designation of the State of Minnesota under the appropriate provisions of the PPIA has remained in effect since that time.

Section 5(c) of the PPIA provides that, whenever the Secretary of Agriculture determines that any designated State has developed and will enforce State meat inspection requirements at least “equal to” those imposed by USDA under the PPIA, with regard to intrastate operations and transactions within the State, the Secretary will terminate the designation of such State. The Secretary has determined that the State of Minnesota has developed and will enforce such a State poultry products inspection program in accordance with applicable provisions of the PPIA. In addition, the Secretary has determined that the State of Minnesota also is in a position to enforce effectively the provisions of sections 1-4, 6-11, and 12-22 of the PPIA. Therefore, the designations of the State of Minnesota under these sections are terminated.

Because it does not appear that public participation in this matter would make additional relevant information available to the Secretary under the administrative procedure provisions in 5 U.S.C. 553, it is found upon good cause that such public procedure is impracticable and unnecessary.

Executive Order 12866

This final rule is issued in conformance with Executive Order 12866 and has been determined not to be a major rule. It will not result in an annual effect on the economy of $100 million or more. It will not cause a major increase in costs or prices for consumers, individual industries, governments, or geographic regions. Terminating the designation of the State of Minnesota will provide for the State to assume the responsibility, previously limited to USDA, of administering a poultry products inspection program for intrastate operations and transactions and for ensuring compliance by persons, firms, and corporations engaged in intrastate commerce in specified kinds of businesses. Qualifying businesses will have the option to operate under State inspection as an alternative to Federal inspection. The State of Minnesota will be required to administer the poultry products inspection program in a manner that is at least “equal to” the inspection program administered by USDA.

Effect on Small Entities

The Administrator has made an initial determination that this final rule would not have a significant economic impact on a substantial number of small entities, as defined by the Regulatory Flexibility Act (5 U.S.C. 601). As stated above, the State of Minnesota is assuming a responsibility, previously limited to USDA, of administering the poultry products inspection program for intrastate poultry operations and transactions.

Additional Public Notification

FSIS has considered the potential civil rights impact of this final rule on minorities, women, and persons with disabilities. FSIS anticipates that this final rule will not have a negative or disproportionate impact on minorities, women, or persons with disabilities. However, final rules generally are designed to provide information and receive public comments on issues that may lead to new or revised Agency regulations or instructions. Public involvement in all segments of rulemaking and policy development is important. Consequently, in an effort to better ensure that minorities, women, and persons with disabilities are informed about the mechanism for providing their comments, FSIS will announce it and provide copies of this Federal Register publication in the FSIS Constituent Update.

FSIS provides a weekly Constituent Update, which is communicated via fax to more than 300 organizations and individuals. In addition, the update is available on-line through the FSIS web page located at http://www.fsis.usda.gov. The update is used to provide information regarding FSIS policies, procedures, regulations, Federal Register notices, FSIS public meetings, recalls, and any other types of information that could affect or would be of interest to our constituents/stakeholders. The constituent fax list consists of industry, trade, and farm groups, consumer interest groups, allied health professionals, scientific professionals, and other individuals who have requested to be included. Through these various channels, FSIS is able to provide information to a much broader, more diverse audience. For more information and to be added to the constituent fax list, fax your request to the Congressional and Public Affairs Office, at (202) 720-5704.

List of Subjects in 9 CFR Part 381

Poultry and poultry products.

Accordingly, Part 381 of the poultry products inspection regulations (9 CFR Part 381) is amended as follows:

PART 381—[AMENDED]

1. The authority citation for Part 381 continues to read as follows:

Authority: 7 U.S.C. 138f; 7 U.S.C. 450; 21 U.S.C. 451-470; 7 CFR 2.17, 2.55.

§ 381.221 [Amended]

2. Section 381.221 is amended by removing “Minnesota” from the States column and by removing the corresponding date.

§ 381.224 [Amended]

3. Section 381.224 is amended by removing “Minnesota” from the “State” column in two places and by removing the corresponding dates.

Done at Washington, DC, on February 4, 2000.
Thomas J. Billy,
Administrator.

[FR Doc. 00-3164 Filed 2-10-00; 8:45 am]

BILLING CODE 3410-DM-P